DEPARTMENT OF JUSTICE

Antitrust Division

Notice Pursuant to the National Cooperative Research and Production Act of 1993—Blockchain Security Standards Council, Inc.

Notice is hereby given that, on July 9, 2024, pursuant to section 6(a) of the National Cooperative Research and Production Act of 1993, 15 U.S.C. 4301 et seq. (“the Act”), Blockchain Security Standards Council, Inc. (“BSSC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Bastion Platforms, Inc., Campbell, CA; Halbourn, Inc., Miami, FL; Payward, Inc., San Francisco, CA; and Zeppelin Group Ltd., London, UNITED KINGDOM. The general area of BSSC's planned activity is to elevate trust and confidence in blockchain systems and applications through the development and promotion of security standards and audit frameworks and to undertake such other activities as may from time to time be appropriate to further such purpose.

Suzanne Morris,
Deputy Director Civil Enforcement Operations, Antitrust Division.

[FR Doc. 2024-22073 Filed 9-25-24; 8:45 am]

BILLING CODE P